DEPARTMENT OF COMMERCE

International Trade Administration

Announcement of Approved International Trade Administration Business Development Mission

AGENCY: International Trade Administration, Department of Commerce.

SUMMARY: The United States Department of Commerce, International Trade Administration (ITA), is announcing one upcoming business development mission that will be recruited, organized, and implemented by ITA. This mission is: Taiwan Uncrewed Aircraft Systems (UAS) & Counter-UAS (C-UAS) Business Development Mission-September 22-25, 2024. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington DC 20230; telephone: (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that are adequate to allow the Department of Commerce to evaluate their application. If the Department of Commerce receives an incomplete application, the Department of Commerce may either: reject the application, request additional information/clarification, or take the lack of information into account when evaluating the application. If the requisite minimum number of participants is not selected for a particular mission by the recruitment deadline, the mission may be canceled.

Each applicant must also certify that the products and services it seeks to export through the mission are either produced in the United States, or, if not, are marketed under the name of a U.S. firm and have at least 51% U.S. content by value. In the case of a trade association or organization, the applicant must certify that, for each firm or service provider to be represented by the association/organization, the products and/or services the represented firm or service provider seeks to export are either produced in the United States or, if not, are marketed under the name of a U.S. firm and have at least 51% U.S. content by value.

A trade association/organization applicant must certify and agree to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of applicant's size and location may also be considered during the review process. Referrals from a political party or partisan political group or any information, including on the application, containing references to political contributions or other partisan political activities will be excluded from the application and will not be considered during the selection process. The sender will be notified of these exclusions.

Definition of Small and Medium-Sized Enterprise

For purposes of assessing participation fees, an applicant is a small and medium-sized enterprise (SME) if it qualifies as a “small business” under the Small Business Administration's (SBA) size standards (https://www.sba.gov/document/support—table-size-standards), which vary by North American Industry Classification System (NAICS) Code. The SBA Size Standards Tool (https://www.sba.gov/size-standards) can help you determine the qualifications that apply to your company.

Mission List: (additional information about trade missions can be found at https://www.trade.gov/trade-missions). Taiwan Uncrewed Aircraft Systems (UAS) & Counter-UAS (C-UAS) Business Development Mission—September 22-25, 2024.

Summary

The United States Department of Commerce, International Trade Administration (“ITA”) is organizing a Taiwan Uncrewed Aircraft Systems (UAS) and Counter-UAS (C-UAS) Business Development Mission from September 22 through September 25, 2024. The objective of this mission is to advance U.S. national interests and focus on meeting Taiwan market demand for UAS and C-UAS commercial and defense solutions.

The business development mission will include 15-20 representatives from U.S. UAS and C-UAS manufacturers and service providers. The mission will facilitate connections to the Taiwan authorities and private sector customers, including defense, security, and police services, as well as critical infrastructure such as airports and manufacturing facilities.

ITA will organize a tailored program for U.S. companies exploring opportunities in the Taiwan market and will leverage strong connections with U.S. interagency partners to lead discussions on trade, security, and technical aspects of doing business with Taiwan's defense industry. Mission participants will benefit from strong American Institute in Taiwan (AIT) connections to the Taiwan authorities and industry through public-to-private sector and business-to-business matchmaking and networking events, roundtables with Taiwan representatives and industry leaders, product presentations, and site visits to commercial and defense manufacturing facilities, all bolstered by the guidance and insights of ITA's commercial team.

The business development mission is an opportunity for U.S. companies to explore market development opportunities in Taiwan, strengthen the U.S.-Taiwan trade relationship, showcase the technology, know-how, and capabilities that U.S. industry has to offer, and demonstrate U.S. interest in partnering with Taiwan to strengthen its self-defense capabilities. Mission participants will receive an enhanced ability to secure meetings and gain greater exposure to the Taiwan commercial and defense market.

The Taiwan defense market has seen recent rapid growth spurred by regional tensions. U.S. manufacturers of defense equipment benefit from a long-standing relationship with the Taiwan authorities and defense industry leaders. However, U.S. companies participating in the Taiwan market face significant hurdles as new entrants, including finding local partners, navigating offset requirements and technology transfer, and growing competition from both domestic and international manufacturers.

In 2021, the overall Taiwan aerospace and defense market was $9.2 billion, with U.S. imports accounting for 39.5% of the market. U.S. arms sales to Taiwan have significantly aided in enabling Taiwan to maintain a sufficient self-defense capability. From 2019 to August 2022, the U.S. Government notified Congress of more than $18.5 billion in Foreign Military Sales to Taiwan.

With increased tensions in the Taiwan Strait, the Taiwan authorities have demonstrated a strengthened commitment to modernizing its military capabilities. Taiwan implemented a $24.6 billion defense budget in 2023—a nearly 10 percent increase over 2022—and has developed programs to catalyze the growth of specific defense and security capabilities, including UAS and C-UAS. In 2022, the Taiwan authorities announced an effort to develop and procure 3,200 UAS by mid-2024 with an eventual goal of several times that number within five years.

Mission participants will benefit from the expertise and connections of the U.S. Department of Commerce, the American Institute in Taiwan, and U.S. interagency partners to the Taiwan authorities and defense industry leaders, facilitating meetings with decision-makers and procurement leaders.

This business development mission seeks U.S. UAS and C-UAS equipment manufacturers and software providers exploring market development opportunities and companies intent on making connections to Taiwan commercial and defense firms and the Taiwan authorities. Relevant mission applicants include companies producing UAS products and parts for defense and commercial markets with applications including defense, national security, police services, disaster and emergency management, search and rescue, and critical infrastructure inspection. Relevant mission applicants for C-UAS products include companies engaged in software, hardware, and parts production for the detection, identification, tracking, and mitigation of UAS. Both soft and hard defeat platforms are applicable depending on the participant's goals for commercial and defense applications. Taiwan customers include defense, security, and police services, as well as critical infrastructure such as airports and energy and manufacturing facilities.

Relevant mission applicant industry sectors include Uncrewed Aircraft Systems (UAS); Counter Uncrewed Aircraft Systems (C-UAS); Security Systems and Equipment; Command, Control, Communication & Information Systems; Radar; and Underwater Uncrewed Vehicles (UUV), Air Traffic Management Systems (ATM), and Uncrewed Aircraft Systems Traffic Management (UTM).

Previous experience in foreign markets is preferred. Companies do not require previous experience in the Taiwan market.

Taiwan

Taipei, Taiwan—Mission participants will travel to Taipei to participate in briefings, policy discussions, and roundtable sessions curated by ITA and AIT. Mission participants arriving in Taipei will be provided an overview of policy and industry priorities from AIT personnel as well as U.S. interagency specialists. Participants will gain insight into opportunities and challenges present in the Taiwan defense market from industry experts and meet with procurement officials from organizations such as the Ministry of National Defense (MND), National Chung-Shan Institute of Science and Technology (NCSIST), the Aerospace Industrial Development Corporation (AIDC), and leading trade associations -specific entities and meetings to be confirmed.

Other Products and Services

The foregoing analysis of defense-related opportunities in Taiwan is not intended to be exhaustive, but illustrative of the many opportunities available to U.S. businesses. Applications from companies selling products or services within the scope of this mission, but not specifically identified, will be considered and evaluated by the U.S. Department of Commerce. Companies whose products or services do not fit the scope of the mission may contact their local U.S. Export Assistance Center (USEAC) to learn about other business development missions and services that may provide more targeted export opportunities. Companies may go to http://help.export.gov/ or http://trade.gov to obtain such information.

Mission Goals

The purpose of this business development mission is to advance U.S. national interests by developing export prospects for U.S. companies and to connect U.S. UAS and C-UAS companies with the rapidly growing Taiwan commercial and defense market. The mission will aid companies through guidance and expertise from the U.S. Commercial Service and connections to leaders in industry and the Taiwan authorities.

Mission Goals include:

• Provide U.S. UAS and C-UAS companies the opportunity to explore the market potential for their products.

• Strengthen connections between U.S. companies and Taiwan aerospace and defense companies in a key market in East Asia by leveraging connections with interagency partners in the region and AIT's connections to the local defense industry, Taiwan authorities responsible for procurement, and leaders of critical infrastructure facilities.

• Leverage U.S. interagency partners to connect with prospective business development mission participating companies and with high-level representatives of the Taiwan authorities and industry officials to enhance U.S. participants' export potential.

• Connect participants with senior-level Taiwan authorities in a setting that facilitates progress on business development projects. For companies new to the market, this will be an opportunity to make initial contacts and learn more about Taiwan's market.

• Showcase the technology, know-how, and capabilities the U.S. private sector has to offer and demonstrate U.S. interest in partnering with Taiwan to bolster its security and resilience.

The business development mission will be based in Taipei, Taiwan, where companies will have opportunities to connect with Taiwan's defense decision-makers at events hosted by AIT, local industry, and industry associations. Companies will participate in business-to-business (B2B) and public-to-private matchmaking. An evening reception will be organized by AIT. The U.S. Commercial Service will be on-site and available to provide market information and offer logistics assistance throughout the mission.

Proposed Timetable

* Note: The final schedule and potential site visits will depend on the availability of the Taiwan authorities and business officials, specific goals of mission participants, and ground transportation.

Sunday, September 22, 2024, Taipei | • Business Development Mission Participants Arrive in Taipei, Taiwan. • Welcome No Host Dinner with Business Development Mission Participants.
Monday, September 23, 2024, Taipei | • AIT Island Team Briefing. • Policy roundtables with AIT, USG (DOC), and industry. • Site visits to commercial and defense manufacturers. • Evening networking reception.
Tuesday, September 24, 2024, Taipei | • Roundtable with Taiwan UAS associations. • Public-to-private sector meetings. • One-on-one business matchmaking.
Wednesday, September 25, 2024, Taipei | • One-on-One business matchmaking. • Evening networking reception. • End of Mission.

Participation Requirements

All parties interested in participating in the trade mission must complete and submit an application package for consideration by the Department of Commerce. All applicants will be evaluated on their ability to meet certain conditions and best satisfy the selection criteria as outlined below. A minimum of 15 and a maximum of 20 firms and/or trade associations will be selected to participate in the mission from the applicant pool.

Fees and Expenses

After a firm or trade association has been selected to participate in the mission, a payment to the Department of Commerce in the form of a participation fee is required. The participation fee for the Taiwan UAS and C-UAS Mission will be $3600.00 for small or medium-sized enterprises (SME); ¹ and $5200.00 for large firms or trade associations. The fee for each additional firm representative (large firm or SME/trade organization) is $1000.00. Expenses for travel, lodging, meals, and incidentals will be the responsibility of each mission participant. Interpreter and driver services can be arranged for additional cost. Delegation members will be able to take advantage of AIT rates for hotel rooms.

¹ For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

If and when an applicant is selected to participate on a particular mission, a payment to the Department of Commerce in the amount of the designated participation fee below is required. Upon notification of acceptance to participate, those selected have 5 business days to submit payment or the acceptance may be revoked.

Participants selected for a business development mission will be expected to pay for the cost of personal expenses, including, but not limited to, international travel, lodging, meals, transportation, communication, and incidentals, unless otherwise noted. Participants will, however, be able to take advantage of AIT rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Taiwan fees and processing expenses to obtain such a visa are not included in the participation fee. However, the Department of Commerce will provide instructions to each participant on the procedures required to obtain business visas.

Business Development Mission members participate in missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission economies. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees accordingly, prepare an agenda for virtual activities, and notify the previously selected applicants with the option to opt-in to the new virtual program.

Timeframe for Recruitment and Applications

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than April 26, 2024. The U.S. Department of Commerce will review applications and inform applicants of selection decisions on a rolling basis. Applications received after April 26, 2024, will be considered only if space and scheduling constraints permit.

Contacts

Project Lead

Luke Yanos, Senior Internacional Trade Specialist, Commercial Service Chicago, 872-327-8038, Luke.Yanos@trade.gov

Jacqueline Roeder, International Trade Specialist, Commercial Service San Diego, 619-209-9233, Jacqueline.Roeder@Trade.gov

U.S. Based Recruitment Lead

Paul Matino, Acting Director, Commercial Service Baltimore, 443-286-1263, Paul.Matino@trade.gov

Jason Sproule, Aerospace & Defense Global Team Leader, Commercial Service Los Angeles, 949-283-0690, Jason.Sproule@trade.gov

Stefanie Merchant, International Trade Specialist, Industry & Analysis Aerospace Team, 202-573-2772, Stefanie.Merchant@trade.gov

Jeffrey Dutton, Commercial Officer, American Institute in Taiwan, +886 2162-2633, Jeffrey.Dutton@trade.gov

Madison Yao, Commercial Specialist, American Institute in Taiwan, Madison.Yao@trade.gov

Christopher Ashe, Deputy Director, Global Markets, Office of East Asia and Oceania, Christopher.Ashe@trade.gov

Gemal Brangman,
Director, Trade Events Management Task Force.

[FR Doc. 2024-04863 Filed 3-6-24; 8:45 am]

BILLING CODE 3510-DR-P